DEPARTMENT OF TRANSPORTATION

Federal Aviation Administration

14 CFR Part 39

[Docket No. FAA-2015-0078; Directorate Identifier 2014-NM-235-AD; Amendment 39-18084; AD 2015-02-17]

RIN 2120-AA64

Airworthiness Directives; Airbus Airplanes

AGENCY: Federal Aviation Administration (FAA), Department of Transportation (DOT).

ACTION: Final rule; request for comments.

SUMMARY: We are adopting a new airworthiness directive (AD) for all Airbus Model A330-200, A330-200 Freighter, and A330-300 series airplanes. This AD requires revising the electrical emergency configuration procedure in the Emergency Procedures section of the airplane flight manual (AFM) to include procedures for deploying the ram air turbine manually to provide sufficient hydraulic power and avoid constant speed motor/generator (CSM/G) shedding. This AD was prompted by an electrical load analysis that revealed that hydraulic power might not be sufficient to supply the CSM/G during slat/flap extension when only one engine is running. We are issuing this AD to prevent such a condition which, in conjunction with the loss of the main electrical system, could lead to the scenario where the flightcrew is not clearly warned that the electrical system has switched on the battery and thus has a limited duration that would allow a safe landing.

DATES: This AD becomes effective February 13, 2015.

The Director of the Federal Register approved the incorporation by reference of certain publications listed in this AD as of February 13, 2015.

We must receive comments on this AD by March 16, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0078; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

The European Aviation Safety Agency (EASA), which is the Technical Agent for the Member States of the European Union, has issued EASA Airworthiness Directive 2014-0281, dated December 22, 2014 (referred to after this as the Mandatory Continuing Airworthiness Information, or “the MCAI”), to correct an unsafe condition on all Airbus Model A330-200, A330-200 Freighter, and A330-300 series airplanes. The MCAI states:

The Constant Speed Motor/Generator (CSM/G), as installed on Airbus A330 aeroplanes, is qualified for an overload condition of 9.5kVA [kilovolt-ampere] for 30 minutes. This duration is sufficient to perform safe landing and a GO-AROUND. However, electrical load analysis revealed that the hydraulic power might not be sufficient to supply the CSM/G during slat/flap extension when only one engine is running.

This condition, if not corrected, and in conjunction with the loss of main electrical system, could lead to the scenario where the crew is not clearly warned that the electrical system has switched on the battery and thus has a limited duration that would allow a safe landing.

To address this potential unsafe condition, Airbus issued an Aircraft Flight Manual (AFM) Temporary Revision (TR) on A330 aeroplane to update the electrical emergency configuration “ELEC EMER CONFIG” procedure to require the pilot to deploy the ram air turbine manually before setting the Landing Recovery to ON position to provide sufficient hydraulic power and avoid CSM/G shedding under worst-case operational conditions.

Consequently, EASA issued AD 2014-0273 (http://ad.easa.europa.eu/blob/easa_ad_2014_0273_superseded.pdf/AD_2014-0273_1) to require amendment of the AFM by incorporating the applicable Airbus TR.

After that [EASA] AD was issued, EASA became aware that the reference to Airbus modification (mod) 47930 was insufficient to define which AFM TR is applicable to which aeroplane (configuration), as this mod can be embodied in service with Airbus Service Bulletin (SB) A330-28-3067.

For the reason described above, this [EASA] AD retains the requirements of EASA AD 2014-0273, which is superseded, and corrects the information included in Table 1.

You may examine the MCAI on the Internet at http://www.regulations.gov by searching for and locating Docket No. FAA-2015-0078.

Related Service Information

Airbus has issued A330/A340 Airplane Flight Manual (AFM) Temporary Revision (TR) TR427, UPDATE OF ELEC—EMER CONFIG PROCEDURE, Issue 1.0, dated November 7, 2014 (for airplanes in Airbus pre-modification 47930 configuration or pre-Airbus Service Bulletin A330-28-3067 configuration); and A330/A340 AFM TR TR428, UPDATE OF ELEC—EMER CONFIG PROCEDURE, Issue 1.0, dated November 7, 2014 (for airplanes in Airbus post-modification 47930 configuration or post-Airbus Service Bulletin A330-28-3067 configuration). This service information describes updated electrical emergency configuration procedures in the AFM. You can find this information at http://www.regulations.gov by searching for and locating Docket No. FAA-2015-0078.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

FAA's Determination of the Effective Date

An unsafe condition exists that requires the immediate adoption of this AD. The FAA has found that the risk to the flying public justifies waiving notice and comment prior to adoption of this rule because hydraulic power might not be sufficient to supply the CSM/G during slat/flap extension when only one engine is running. This condition, in conjunction with the loss of the main electrical system, could lead to the scenario where the flightcrew is not clearly warned that the electrical system has switched on the battery and thus has a limited duration that would allow a safe landing. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2015-0078; Directorate Identifier 2014-NM-235-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 91 airplanes of U.S. registry.

We also estimate that it will take about 1 work-hour per product to comply with the basic requirements of this AD. The average labor rate is $85 per work-hour. Based on these figures, we estimate the cost of this AD on U.S. operators to be $7,735, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-02-17 Airbus: Amendment 39-18084. Docket No. FAA-2015-0078; Directorate Identifier 2014-NM-235-AD.

(a) Effective Date

This AD becomes effective February 13, 2015.

(b) Affected ADs

None.

(c) Applicability

This AD applies to the airplanes identified in paragraphs (c)(1) and (c)(2) of this AD, certificated in any category, all manufacturer serial numbers.

(1) Airbus Model A330-201, -202, -203, -223, -223F, -243, and -243F airplanes.

(2) Airbus Model A330-301, -302, -303, -321, -322, -323, -341, -342, and -343 airplanes.

(d) Subject

Air Transport Association (ATA) of America Code 24, Electrical Power.

(e) Reason

This AD was prompted by an electrical load analysis that revealed that hydraulic power might not be sufficient to supply the constant speed motor/generator (CSM/G) during slat/flap extension when only one engine is running. We are issuing this AD to prevent such a condition which, in conjunction with the loss of the main electrical system, could lead to the scenario where the flightcrew is not clearly warned that the electrical system has switched on the battery and thus has a limited duration that would allow a safe landing.

(f) Compliance

Comply with this AD within the compliance times specified, unless already done.

(g) Revise Airplane Flight Manual (AFM)

Within 15 days after the effective date of this AD, revise the Emergency Procedures section of the Airbus A330 AFM to include the information in the applicable Airbus temporary revision (TR) specified in paragraph (g)(1) or (g)(2) of this AD. This may be done by inserting a copy of the applicable TR specified in paragraph (g)(1) or (g)(2) of this AD into the AFM. Operate the airplane according to the procedures in the applicable TR. When the information in the applicable TR has been included in the general revisions of the AFM, the general revisions may be inserted into the AFM, provided the relevant information in the general revision is identical to that in the TR, and the TR may be removed.

(1) For airplanes in Airbus pre-modification 47930 configuration and pre-Airbus Service Bulletin A330-28-3067 configuration: Airbus A330/A340 AFM TR TR427, UPDATE OF ELEC—EMER CONFIG PROCEDURE, Issue 1.0, dated November 7, 2014.

(2) For airplanes in Airbus post-modification 47930 configuration or post-Airbus Service Bulletin A330-28-3067 configuration: Airbus A330/A340 AFM TR TR428, UPDATE OF ELEC—EMER CONFIG PROCEDURE, Issue 1.0, dated November 7, 2014.

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(i) Related Information

Refer to Mandatory Continuing Airworthiness Information (MCAI) EASA Airworthiness Directive 2014-0281, dated December 22, 2014, for related information. This MCAI may be found in the AD docket on the Internet at http://www.regulations.gov by searching for and locating Docket No. FAA-2015-0078.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus A330/A340 Airplane Flight Manual (AFM) Temporary Revision TR427, UPDATE OF ELEC—EMER CONFIG PROCEDURE, Issue 1.0, dated November 7, 2014.

(ii) Airbus A330/A340 AFM Temporary Revision TR428, UPDATE OF ELEC—EMER CONFIG PROCEDURE, Issue 1.0, dated November 7, 2014.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 9, 2015.
Jeffrey E. Duven,
Manager, Transport Airplane Directorate, Aircraft Certification Service.

[FR Doc. 2015-01178 Filed 1-28-15; 8:45 am]

BILLING CODE 4910-13-P